SUSQUEHANNA RIVER BASIN COMMISSION

Commission Meeting

AGENCY: Susquehanna River Basin Commission.

ACTION: Notice.

SUMMARY: The Susquehanna River Basin Commission will conduct its regular business meeting on June 16, 2022 in Baltimore, Maryland. Details concerning the matters to be addressed at the business meeting are contained in the Supplementary Information section of this notice. Also the Commission published a document in the Federal Register on April 13, 2022, concerning its public hearing on May 5, 2022, in Harrisburg, Pennsylvania.

DATES: The meeting will be held on Thursday, June 16, 2022, at 9 a.m.

ADDRESSES: The meeting will be conducted in person and digitally from the Maryland Department of the Environment, 1800 Washington Boulevard, Baltimore, Maryland 21230-1708.

FOR FURTHER INFORMATION CONTACT: Jason E. Oyler, General Counsel and Secretary to the Commission, telephone: 717-238-0423; fax: 717-238-2436.

SUPPLEMENTARY INFORMATION: The business meeting will include actions or presentations on the following items: (1) Election of Commission officers for FY2023; (2) reconciliation of FY2023 budget; (3) a resolution in regard to the Conowingo Watershed Implementation Plan; (4) ratification of contracts/grants; (5) revision of Commission By-laws; (6) proposed Water Resources Program for 2022-2024; (7) three regulatory program waiver requests; and (8) actions on 20 regulatory program projects, including one diversion and one Commission-initiated approval modification.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

The meeting will be conducted both in person at the Maryland Department of the Environment headquarters and digitally. The public is invited to attend the Commission's business meeting. You can access the Business Meeting through a computer (Audio and Video) by following the link: https://srbc.webex.com/srbc/j.php?MTID=m79bb5b40439d92254c1d58b07ac89dcd then enter meeting number 177 325 1513 and password CommBusMtg0616. You may also participant telephonically by dialing 1-877-668-4493 and entering the meeting number 177 325 1513 followed by the # sign.

Written comments pertaining to items on the agenda at the business meeting, except the proposed actions on the 20 regulatory program items, may be mailed to the Susquehanna River Basin Commission, 4423 North Front Street, Harrisburg, Pennsylvania 17110-1788, or submitted electronically through www.srbc.net/about/meetings-events/business-meeting.html. Such comments are due to the Commission on or before June 14, 2022. Comments will not be accepted at the business meeting noticed herein.

Authority: Public Law 91-575, 84 Stat. 1509 et seq., 18 CFR parts 806, 807, and 808.

Dated: May 6, 2022.
Jason E. Oyler,
General Counsel and Secretary to the Commission.

[FR Doc. 2022-10136 Filed 5-11-22; 8:45 am]

BILLING CODE 7040-01-P